DEPARTMENT OF ENERGY

Federal Energy Regulatory Commission

[Docket No. ER07-1372-005]

Midwest Independent Transmission System Operator, Inc.; Notice Shortening Answer Period

November 21, 2008.

On November 20, 2008, the Midwest Independent Transmission System Operator, Inc. (the Midwest ISO) filed a Motion for Extension of Authority and Request for Expedited Consideration, in the above-proceeding (November 20 Motion). In the filing, the Midwest ISO requests an extension of authority to compensate Market Participants through manual redispatch make-whole payment provisions for on-going operational tests associated with the Midwest ISO's proposed Ancillary Services Markets as granted by the Commission's order issued May 7, 2008, in this docket. Midwest Independent Transmission System Operator, Inc., 123 FERC ¶ 61,135 (2008). Included in the filing was a request to shorten the dates for filing answers to the motion.

By this notice, the date for filing answers to the Midwest ISO's November 20 Motion is shortened to and including November 28, 2008.

Nathaniel J. Davis, Sr.,
Deputy Secretary.

[FR Doc. E8-28402 Filed 11-28-08; 8:45 am]

BILLING CODE 6717-01-P